DEPARTMENT OF AGRICULTURE

Economic Research Service

Notice of Intent To Request New Information Collection

AGENCY: Economic Research Service, USDA.

ACTION: Notice of information collection; request for comments.

SUMMARY: In accordance with the Paperwork Reduction Act of 1995, this notice announces the U.S. Department of Agriculture's (USDA) intention to request approval for a Field Test for a new information collection for a Second National Household Food Acquisition and Purchase Survey (FoodAPS-2) also called the National Food Study among American households.

DATES: Written comments must be received by September 13, 2019 to be assured of consideration.

ADDRESSES: You may send comments by any of the following methods:

• Email: LINDA.KANTOR@USDA.GOV.

• Mail: Linda Kantor, Food Economics Division, Economic Research Service, U.S. Department of Agriculture, 1400 Independence Avenue SW, Mailstop 1800, Washington, DC 20250.

• Hand Delivery/Courier: Linda Kantor, Economic Research Service, 355 E Street SW, Washington DC 20024-3221.

All comments received will be available for public inspection during regular business hours at the offices of USDA's Economic Research Service, 355 E Street SW, Washington, DC 20024-3221. All responses to this notice will be summarized and included in the request for OMB approval. All comments will become a matter of public record. Please note that comments submitted after the comment period will not be accepted.

FOR FURTHER INFORMATION CONTACT: For specific questions related to this information collection, contact Linda Kantor, 202-694-5392, LINDA.KANTOR@USDA.Gov.

SUPPLEMENTARY INFORMATION: The Department of Agriculture's Economic Research Service, in accordance with the Paperwork Reduction Act of 1995, provides the general public and Federal agencies with an opportunity to comment on proposed, revised, and continuing collections of information. This helps the Economic Research Service (ERS) assess the impact of its information collection requirements and minimize the public's reporting burden. It also helps the public understand the ERS's information collection requirements and provide the required data in the desired format. ERS is soliciting comments on the proposed information collection requirement (ICR) that is described below. Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Please note that written comments received in response to this notice will be considered public records.

Title of Collection: The Second National Household Food Acquisition and Purchase Survey (FoodAPS-2) Field Test.

OMB Control Number: To be assigned by OMB.

Expiration Date: Three years from the date of approval.

Type of Request: New information collection.

Abstract: The Field Test for FoodAPS-2, also known as the National Food Study to respondents in the field, will be conducted over a four-month period from January 2021 to April 2021. The Field Test will collect data from up to 4,000 households, including households participating in the Supplemental Nutrition Assistance Program (SNAP, formerly the Food Stamp Program) and the Special Supplemental Nutrition Program for Women, Infants, and Children (WIC). Each participating household will be asked to log the foods they get over a 7-day period.

FoodAPS-2 data are necessary to understand Americans' food and nutrition choices, the drivers of these choices, and how the government can improve administration of public programs at reasonable cost to better the health and well-being of the American population. The data will reveal precise and detailed information on: (1) Food purchased for preparation at home and away from home; (2) food people get for free; (3) food that each member of the household gets; (4) the nutrient content of food items people get; (5) the cost of these foods and how people pay for them (e.g., cash, credit or debit, program benefits, coupons and discounts); (6) market, demographic, policy and program characteristics of local areas where people get their food; (7) household characteristics, including income, participation in Federal food assistance programs, food security, and health status; and (8) the complex interrelationship between food, nutrition, economics, program participation, food environments, and health.

The U.S. Department of Agriculture (USDA) collected similar data in 2012-2013 with the first National Household Food Acquisition and Purchase Survey (FoodAPS-1, OMB Control Number 0536-0068). (See the results at https://www.ers.usda.gov/foodaps). The expected time between FoodAPS-1 and FoodAPS-2 will be about 11 years, during which time the structure of the U.S. food economy will have changed dramatically. American households get their food from a large variety of places, including: Grocery stores, big box stores, farmers' markets, food pantries, dine-in restaurants, fast food restaurants, schools, online retailers, and other food outlets. Food acquisition behaviors have changed in response to changing markets, household structure, labor force participation, and other factors. There is special interest in food demand among low-income households. At some point during each year, about 1 in 4 Americans participate in at least one of USDA's 15 domestic food and nutrition assistance programs. To evaluate the efficiency of the programs, USDA needs to better understand the food acquisition behavior of program participants compared to low-income, program-eligible, non-participating households. Neighborhoods that lack access to healthy and affordable food have been of particular concern for USDA. To this end, USDA needs current, accurate data on household food acquisitions, food insecurity, food prices, and the availability of healthful and less-healthful foods.

The main objective of the Field Test is to test the final design and procedures for the Full Survey data collection. Specifically, the Field Test will evaluate the following: A mail screener to reduce in-person screening; enhancements to the data collection instruments that assess drivers of food acquisition behavior; a new native smartphone application (to reduce respondent burden); an alternative web-based Food Log using a barcode scanner, for households who are unable to use the smartphone app; a telephone mode option for households who are unable to use either the smartphone app or the web-based method; and targeted telephone follow-up calls to encourage Food Log reporting throughout the 7-day period.

All recruited households will receive $40 upon completion of the Initial Interview and Food Log training. Similarly, all households will accumulate a $5 per day credit for each eligible household member who reports both their food purchases and the food they get for free (including affirmation of no food acquisitions). $2 will be provided to each household member who completes the Income Worksheet (available online) and another $2 per person for completing the Profile Questionnaire (available online and via the app). An additional $16 incentive will be provided to the primary respondent after completion of a Debriefing Interview at the end of the reporting period.

In addition, two incentive experiments are embedded in the Field Test. The first incentive experiment varies the amount of a prepaid incentive included in the mail screener ($2 vs. none). The second experiment varies the amount of a promised incentive upon completing the in-person screener ($5 vs. none). The final incentive scheme for the Full Survey will be determined by the results of Field Test.

Responses will be combined for statistical purposes and reported only in aggregate or statistical form. Because this is a field test for the full-scale FoodAPS-2 data collection, there are no plans to make the collected data available to the public. The data will be analyzed and used to finalize design and data collection protocol for the Full Survey.

Authority: Legislative authority for the planned data collection is Section 17 (a) (1) of the Food and Nutrition Act of 2008 (7 U.S.C. 2026). This section authorizes the Secretary to undertake research that will help improve the administration and effectiveness of programs providing nutrition benefits.

Confidentiality: All respondent information collected during the Field Test will be protected under the statute of the Confidential Information Protection and Statistical Efficiency Act of 2002 (CIPSEA), (Title V of Pub. L. 107-347).

Type of Respondents: Individuals and households.

Estimate of Burden: The estimated total number of respondents for this study is 4,000 contacted households and 4,650 responding individuals. The estimated total annual burden on respondents is 3,299 hours.

Reporting Burden
Instrument | Sample size | Freq | Responses: Count | Responses: Freq × count | Responses: Min./resp. | Responses: Burden hours * | Non-response/not eligible: Count | Non-response/not eligible: Freq × count | Non-response/not eligible: Min./resp. | Non-response/not eligible: Burden hours * | Total burden hours *
Household-Level Data Collection:
First Mailing for Mail Screener | 4,000 | 1 | 600 | 600 | 6 | 60 | 3,400 | 3,400 | 2 | 113 | 173
Second Mailing for Mail Screener | 3,400 | 1 | 420 | 420 | 6 | 42 | 2,980 | 2,980 | 2 | 99 | 141
Third Mailing for Mail Screener | 2,980 | 1 | 180 | 180 | 6 | 18 | 2,800 | 2,800 | 2 | 93 | 111
Advance letters for In-person | 2,379 | 1 | 2,022 | 2,022 | 2 | 67 | 357 | 357 | 2 | 12 | 79
Household Screener | 2,022 | 1 | 732 | 732 | 9 | 110 | 1,290 | 1,290 | 2 | 43 | 153
Consent Form | 732 | 1 | 659 | 659 | 5 | 55 | 73 | 73 | 2 | 2 | 57
Initial Household Interview | 659 | 1 | 467 | 467 | 30 | 234 | 192 | 192 | 3 | 10 | 244
Debriefing Interviews | 732 | 1 | 586 | 586 | 6 | 59 | 146 | 146 | 2 | 5 | 64
Total Responding Burden—HH |  |  |  |  |  | 645 |  |  |  | 377 | 1022
Individual-Level Data Collection Age 11-15:
Training | 103 | 1 | 98 | 98 | 45 | 74 | 5 | 5 | 3 | 0 | 74
Assent Form | 103 | 1 | 98 | 98 | 1 | 1 | 5 | 5 | 1 | 0 | 1
Food Log | 98 | 7 | 83 | 581 | 7 | 68 | 15 | 105 | 3 | 5 | 73
Meals and Snacks Form | 98 | 7 | 83 | 581 | 2 | 19 | 15 | 105 | 1 | 2 | 21
Profile Questionnaire | 98 | 1 | 83 | 83 | 3 | 4 | 15 | 15 | 1 | 0 | 4
Total Responding Burden—Ind |  |  |  |  |  | 166 |  |  |  | 7 | 173
Age 16+:
Training | 1,014 | 1 | 963 | 963 | 45 | 722 | 51 | 51 | 3 | 3 | 725
Consent Form | 1,014 | 1 | 963 | 963 | 1 | 16 | 51 | 51 | 1 | 1 | 17
Income Worksheet | 963 | 1 | 819 | 819 | 15 | 205 | 144 | 144 | 3 | 7 | 212
Food Log ** | 1,201 | 7 | 819 | 5,733 | 7 | 669 | 382 | 2,674 | 3 | 134 | 803
Meals and Snacks Form ** | 1,201 | 7 | 1,021 | 7,147 | 2 | 238 | 180 | 1,260 | 1 | 21 | 259
Profile Questionnaire ** | 1,201 | 1 | 1,021 | 1,021 | 5 | 85 | 180 | 180 | 1 | 3 | 88
Total Responding Burden—Ind |  |  |  |  |  | 1,935 |  |  |  | 169 | 2,104
Total Responding Burden |  |  |  |  |  | 2,746 |  |  |  | 553 | 3,299
* Estimates of burden hours have been rounded.
** Includes estimates by proxy adults reporting for children aged 0-10.

Dated: June 24, 2019.
Ephraim Leibtag,
Acting Administrator, Economic Research Service.

[FR Doc. 2019-14937 Filed 7-12-19; 8:45 am]

BILLING CODE 3410-18-P